DEPARTMENT OF ENERGY

Federal Energy Regulatory Commission

Combined Notice of Filings #1

Take notice that the Commission received the following electric rate filings:

Docket Numbers: ER20-1006-002.

Applicants: DATC Path 15, LLC.

Description: Compliance filing: Compliance Filing 2021 to be effective 6/13/2020.

Filed Date: 10/22/21.

Accession Number: 20211022-5162.

Comment Date: 5 p.m. ET 11/12/21.

Docket Numbers: ER21-1006-002.

Applicants: El Paso Electric Company.

Description: Tariff Amendment: Service Agreement No. 347, Nonconforming LGIA with Hecate to be effective 1/7/2021.

Filed Date: 10/22/21.

Accession Number: 20211022-5078.

Comment Date: 5 p.m. ET 11/12/21.

Docket Numbers: ER21-1007-002.

Applicants: El Paso Electric Company.

Description: Tariff Amendment: Service Agreement No. 348, Nonconforming LGIA with Hecate 2 to be effective 1/7/2021.

Filed Date: 10/22/21.

Accession Number: 20211022-5081.

Comment Date: 5 p.m. ET 11/12/21.

Docket Numbers: ER21-2496-001.

Applicants: California Independent System Operator Corporation.

Description: Compliance filing: 2021-10-21 NAESB Amended Filing to Original Compliance Filing to be effective 12/31/9998.

Filed Date: 10/21/21.

Accession Number: 20211021-5145.

Comment Date: 5 p.m. ET 11/12/21.

Docket Numbers: ER21-2514-001.

Applicants: Public Service Company of New Mexico.

Description: Compliance filing: Amendment to PNM's Order No. 676-I Compliance Filing to be effective 12/31/9998.

Filed Date: 10/22/21.

Accession Number: 20211022-5169.

Comment Date: 5 p.m. ET 11/12/21.

Docket Numbers: ER21-2523-001.

Applicants: Gulf Power Company.

Description: Compliance filing: Supplement to Order No. 676-I Compliance Filing to be effective 12/31/9998.

Filed Date: 10/22/21.

Accession Number: 20211022-5092.

Comment Date: 5 p.m. ET 11/12/21.

Docket Numbers: ER21-2524-001.

Applicants: PJM Interconnection, L.L.C.

Description: Compliance filing: Compliance filing to ER21-2524-000 re: Order 676-1 in RM05-5-027 to be effective 12/31/9998.

Filed Date: 10/22/21.

Accession Number: 20211022-5100.

Comment Date: 5 p.m. ET 11/12/21.

Docket Numbers: ER21-2525-001.

Applicants: Alabama Power Company.

Description: Compliance filing: OATT Attachment O Order No. 676-I Compliance Filing Supplement to be effective 12/31/9998.

Filed Date: 10/22/21.

Accession Number: 20211022-5120.

Comment Date: 5 p.m. ET 11/12/21.

Docket Numbers: ER21-2529-001.

Applicants: ISO New England Inc., Eversource Energy Service Company (as agent), Green Mountain Power Corporation, New England Power Company, Vermont Transco LLC.

Description: Compliance filing: ISO New England Inc. submits tariff filing per 35: PTO AC; Amended Revisions to Schedule 20A and 21 to Comply with Order No. 676-I to be effective 12/31/9998.

Filed Date: 10/22/21.

Accession Number: 20211022-5032.

Comment Date: 5 p.m. ET 11/12/21.

Docket Numbers: ER21-2592-001.

Applicants: Pacific Gas and Electric Company.

Description: Tariff Amendment: CXA La Paloma Deficiency Response (SA 420) to be effective 8/3/2021.

Filed Date: 10/22/21.

Accession Number: 20211022-5064.

Comment Date: 5 p.m. ET 11/12/21.

Docket Numbers: ER21-941-001.

Applicants: ISO New England Inc., New England Power Pool Participants Committee.

Description: Compliance filing: ISO New England Inc. submits tariff filing per 35: ISO-NE & NEPOOL; Revisions to Sch 24 to Comply with Order No. 676-I in ER21-941 to be effective 12/31/9998.

Filed Date: 10/22/21.

Accession Number: 20211022-5059.

Comment Date: 5 p.m. ET 11/12/21.

Docket Numbers: ER22-174-000.

Applicants: Andro Hydro, LLC.

Description: Petition for Limited Waiver of Andro Hydro LLC.

Filed Date: 10/20/21.

Accession Number: 20211020-5181.

Comment Date: 5 p.m. ET 11/10/21.

Docket Numbers: ER22-178-000.

Applicants: Southwest Power Pool, Inc.

Description: § 205(d) Rate Filing: 3704R1 Union Electric/Evergy Missouri West/MISO Int Agr to be effective 12/21/2021.

Filed Date: 10/22/21.

Accession Number: 20211022-5005.

Comment Date: 5 p.m. ET 11/12/21.

Docket Numbers: ER22-179-000.

Applicants: NorthWestern Corporation.

Description: § 205(d) Rate Filing: Administrative Revisions to Attachment K—Transmission Planning Process to be effective 1/1/2022.

Filed Date: 10/22/21.

Accession Number: 20211022-5022.

Comment Date: 5 p.m. ET 11/12/21.

Docket Numbers: ER22-180-000.

Applicants: NorthWestern Corporation.

Description: Tariff Amendment: Cancellation of RS 327—NorthernGrid Funding Agreement Planning Cycle 2020-2021 to be effective 12/31/2021.

Filed Date: 10/22/21.

Accession Number: 20211022-5026.

Comment Date: 5 p.m. ET 11/12/21.

Docket Numbers: ER22-181-000.

Applicants: Dry Lake Solar Holdings LLC.

Description: Tariff Amendment: Notice of Cancellation of Market-Based Rate Tariff to be effective 12/22/2021.

Filed Date: 10/22/21.

Accession Number: 20211022-5027.

Comment Date: 5 p.m. ET 11/12/21.

Docket Numbers: ER22-182-000.

Applicants: PJM Interconnection, L.L.C.

Description: § 205(d) Rate Filing: Original ISA, Service Agreement No. 6213; Queue No. AF1-147 to be effective 9/27/2021.

Filed Date: 10/22/21.

Accession Number: 20211022-5047.

Comment Date: 5 p.m. ET 11/12/21.

Docket Numbers: ER22-183-000.

Applicants: San Diego Gas & Electric Company.

Description: TO5 Formula Depreciation Rate Change For Common Plant and Electric General Plant of San Diego Gas & Electric Company.

Filed Date: 10/22/21.

Accession Number: 20211022-5048.

Comment Date: 5 p.m. ET 11/12/21.

Docket Numbers: ER22-184-000.

Applicants: Duke Energy Progress, LLC.

Description: § 205(d) Rate Filing: DEP—Updated Nuclear Decommissioning Expense RS No. 381 to be effective 7/1/2021.

Filed Date: 10/22/21.

Accession Number: 20211022-5068.

Comment Date: 5 p.m. ET 11/12/21.

Docket Numbers: ER22-186-000.

Applicants: Middletown Coke Company, LLC.

Description: Baseline eTariff Filing: Reactive tariff baseline filing to be effective 11/1/2021.

Filed Date: 10/22/21.

Accession Number: 20211022-5123.

Comment Date: 5 p.m. ET 11/12/21.

Docket Numbers: ER22-187-000.

Applicants: Smoky Mountain Transmission LLC.

Description: Request for Waivers and Blanket Authorization of Smoky Mountain Transmission LLC.

Filed Date: 10/22/21.

Accession Number: 20211022-5126.

Comment Date: 5 p.m. ET 11/12/21.

Docket Numbers: ER22-188-000.

Applicants: Indra Power Business CT, LLC.

Description: Baseline eTariff Filing: Tariffs and Agreements to be effective 12/21/2021.

Filed Date: 10/22/21.

Accession Number: 20211022-5127.

Comment Date: 5 p.m. ET 11/12/21.

Docket Numbers: ER22-189-000.

Applicants: Consolidated Edison Company of New York, Inc., New York Independent System Operator, Inc.

Description: § 205(d) Rate Filing: Consolidated Edison Company of New York, Inc. submits tariff filing per 35.13(a)(2)(iii: Joint Section 205 filing of TPIA among NYISO, ConEdison and Transco SA No. 2654 to be effective 10/8/2021.

Filed Date: 10/22/21.

Accession Number: 20211022-5128.

Comment Date: 5 p.m. ET 11/12/21.

Docket Numbers: ER22-190-000.

Applicants: California Independent System Operator Corporation.

Description: § 205(d) Rate Filing: 2021-10-22 Joint Owned Unit Pilot Agreement to be effective 12/22/2021.

Filed Date: 10/22/21.

Accession Number: 20211022-5131.

Comment Date: 5 p.m. ET 11/12/21.

Docket Numbers: ER22-191-000.

Applicants: Tidal Energy Marketing (U.S.) L.L.C.

Description: Baseline eTariff Filing: Application for MBR Authorization to be effective 12/22/2021.

Filed Date: 10/22/21.

Accession Number: 20211022-5144.

Comment Date: 5 p.m. ET 11/12/21.

Docket Numbers: ER22-192-000.

Applicants: Evolugen Trading and Marketing LP.

Description: Baseline eTariff Filing: Market-Based Rate Application to be effective 12/22/2021.

Filed Date: 10/22/21.

Accession Number: 20211022-5158.

Comment Date: 5 p.m. ET 11/12/21.

Take notice that the Commission received the following electric securities filings:

Docket Numbers: ES22-14-000.

Applicants: LS Power Grid California, LLC.

Description: Application Under Section 204 of the Federal Power Act for Authorization to Issue Securities of LS Power Grid California, LLC.

Filed Date: 10/21/21.

Accession Number: 20211021-5164.

Comment Date: 5 p.m. ET 11/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2021.
Kimberly D. Bose,
Secretary.

[FR Doc. 2021-23480 Filed 10-27-21; 8:45 am]

BILLING CODE 6717-01-P